DEPARTMENT OF AGRICULTURE

Farm Service Agency

Dairy Industry Advisory Committee; Public Meeting

AGENCY: Farm Service Agency, USDA.

ACTION: Notice of public meeting.

SUMMARY: As required by the Federal Advisory Committee Act, as amended, the Farm Service Agency (FSA) announces the second public meeting of the Dairy Industry Advisory Committee (Dairy Committee) for two days to discuss farm milk price volatility and dairy farmer profitability, review current dairy programs of the U.S. Department of Agriculture (USDA) and Federal dairy policy, hear proposals from the dairy industry, and hear public comments. The Dairy Committee is responsible for making recommendations to the Secretary on these issues. Instructions regarding registering for and attending the meetings are in the SUPPLEMENTARY INFORMATION section of this notice.

DATES: Public meeting: The public meeting will be on June 3 and 4, 2010. The first meeting, on June 3, 2010, will begin at 8:30 a.m. and end by 4:30 p.m. The second meeting, on June 4, 2010, will begin at 8:30 a.m. and end by 4:30 p.m.

Registration: You must register by June 1, 2010, to attend the public meeting and to provide oral comments to the Dairy Committee during the public meetings.

Comments: Written comments are due by June 4, 2010.

ADDRESSES: We invite you to participate in the meeting. The meeting is open to the public. The meeting will be held in room 104-A of the Jamie L. Whitten Building at 12th Street, SW., and Jefferson Drive, Washington, DC 20250.

We also invite you to submit comments. You may submit comments by any of the following methods:

• Online: Go to http://www.fsa.usda.gov/DIAC. Follow the online instructions for submitting comments, or

• Orally at the meeting; please also provide a written copy of your comments.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION: In August 2009, USDA established the Dairy Committee. The Dairy Committee will review the issues of farm milk price volatility and dairy farmer profitability. The Dairy Committee will provide recommendations to the Secretary on how USDA can best address these issues to meet the dairy industry's needs.

The Secretary of Agriculture selected a diverse group of members representing a broad spectrum of persons interested in providing suggestions and ideas on how USDA can tailor its programs to meet the dairy industry's needs. Equal opportunity practices were considered in all appointments to the Dairy Committee in accordance with USDA policies. The Secretary announced the members on January 6, 2010. Representatives include: producers and producer organizations, processors and processor organizations, consumers, academia, a retailer, and a state representative.

The Dairy Committee will hold the meeting on the following dates and locations. The meeting is open to the public. The dairy industry and public are invited to provide oral comments at the meeting on June 3, 2010, at a designated time.

Date | Time | Location information
June 3, 2010 | 8:30 a.m.-4:30 p.m. | USDA headquarters, in the Jamie L. Whitten Building, Room 104-A, 12th Street, SW., and Jefferson Drive, Washington, DC 20250
June 4, 2010 | 8:30 a.m.-4:30 p.m. | USDA headquarters, in the Jamie L. Whitten Building, Room 104-A, 12th Street, SW., and Jefferson Drive, Washington, DC 20250

The purpose of the meeting is to:

• Discuss farm milk price volatility and dairy farmer profitability,

• Review current USDA programs and Federal dairy policy,

• Hear proposals from dairy industry groups, and

• Allow comments from the public.

Instructions for Attending the Meeting

Space for attendance at the meeting is limited. Due to USDA headquarters security and space requirements, all persons wishing to attend the public meeting or provide oral comments to the Dairy Committee during the public meeting must send an e-mail to DIAC@wdc.usda.gov by June 1, 2010, to register the names of those planning to attend. Registrations will be accepted until maximum room capacity is reached. Upon arrival at the USDA Whitten Building, registered persons must provide valid photo identification in order to enter the building. Additional information about the public meeting, meeting agenda, materials and minutes including directions and how to provide comments is available at the Dairy Committee Web site: http://www.fsa.usda.gov/DIAC.

The received comments will be distributed to Dairy Committee members for consideration at the meeting.

If you require special accommodations, such as a sign language interpreter, use the contact information above.

Notice of this meeting is provided in accordance with section 10(a)(2) of the Federal Advisory Committee Act, as amended, (5 U.S.C. Appendix 2).

Signed in Washington, DC, on May 6, 2010.
Jonathan W. Coppess.
Administrator, Farm Service Agency.

[FR Doc. 2010-11223 Filed 5-11-10; 8:45 am]

BILLING CODE 3410-05-P